DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Alaska Seabird Avoidance Program.

Form Number(s): None.

OMB Approval Number: 0648-0474.

Type of Request: Regular submission.

Burden Hours: 16,000.

Number of Respondents: 2,000.

Average Hours per Response: 8 hours.

Needs and Uses: This collection describes an activity of the National Marine Fisheries Service, Alaska Region (NMFS) intended to reduce the incidental take of the short-tailed albatross and other seabird species. The goal of the Seabird Avoidance Plan is to potentially benefit the endangered short-tailed albatross population and populations of other seabird species and to reduce the risk of potentially serious economic impacts to the Alaska hook-and-line fisheries. If the incidental take limit of short-tailed albatross and other seabird species under the section 7 ESA consultation were exceeded, fishery closures could become a possibility under the section 7 consultation process.

Affected Public: Business or other for-profit organizations; individuals or households.

Frequency: Annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, Fax number (202) 395-7285, or David_Rostker@omb.eop.gov.

Dated: January 31, 2006.
Gwellnar Banks,
Management Analyst, Office of the Chief Information Officer.

[FR Doc. E6-1535 Filed 2-3-06; 8:45 am]

BILLING CODE 3510-22-P